NATIONAL SCIENCE FOUNDATION

Proposal Review Panel for Social and Economic Sciences; Notice of Meeting

In accordance with the Federal Advisory Committee Act (Pub. L. 92-463, as amended), the National Science Foundation (NSF) announces the following Site Visit.

Name: Proposal Review Panel for Social and Economic Sciences, #10748.

Date and Time: March 21, 2013 8:30 a.m. to 5:00 p.m., March 22, 2013 8:00 a.m. to 2:00 p.m.

Place: Arizona State University, Tempe, Arizona.

Type of Meeting: Partially Open.

Contact Person: Dr. Robert O'Connor, Program Director for Decision, Risk & Management Sciences (DRMS) Program, National Science Foundation, 4201 Wilson Boulevard, Suite 995N, Arlington, VA 22230. Telephone: (703) 292-7285.

Agenda:

March 21, 2013

8:30 a.m.-12:00 p.m. Meet with researchers at the Decision Center for a Desert City (DCDC), Arizona State University (Closed)

12:00 p.m.-1:00 p.m. Executive session working lunch by site visit team (Closed)

1:00 p.m.-1:30 p.m. Meet with graduate students (Open)

1:30 p.m.-6:00 p.m. Site visit team discusses progress and plans with DCDC and drafting report (Closed)

March 22, 2013

8:00 a.m.-2:00 p.m. Meet with DCDC Site visit team, prepare and finalize report (Closed)

Purpose of Meeting: To direct a site visit to the Decision Center for a Desert City at the Arizona State University.

Reason for Closing: The proposals being reviewed include information of a proprietary or confidential nature, including technical information; financial data, such as salaries; and personal information concerning individuals associated with the proposals. These matters are exempt under 5 U.S.C. 552b(c)(4) and (6) of the Government in the Sunshine Act.

Dated: March 7, 2013.
Susanne Bolton,
Committee Management Officer.

[FR Doc. 2013-05592 Filed 3-11-13; 8:45 am]

BILLING CODE 7555-01-P